DEPARTMENT OF HEALTH AND HUMAN SERVICES

National Institutes of Health

Center for Scientific Review; Amended Notice of Meeting

Notice is hereby given of a change in the meeting of the Musculoskeletal Tissue Engineering Study Section, October 17, 2013, 08:00 a.m. to October 18, 2013, 05:30 p.m., Hyatt Regency Bethesda, One Bethesda Metro Center, 7400 Wisconsin Avenue, Bethesda, MD, 20814 which was published in the Federal Register on September 23, 2013, 78 FR 58325.

The meeting will be held at the DoubleTree by Hilton, Bethesda, 8120 Wisconsin Avenue, Bethesda, MD 20814, on November 18, 2013, starting at 08:00 a.m. and ending at 07:00 p.m. The meeting is closed to the public.

Dated: October 24, 2013.
Carolyn A. Baum,
Program Analyst, Office of Federal Advisory Committee Policy.

[FR Doc. 2013-25514 Filed 10-28-13; 8:45 am]

BILLING CODE 4140-01-P